DEPARTMENT OF ENERGY

Re-Opening of the Public Comment Period for the Draft Uranium Leasing Program Programmatic Environmental Impact Statement

AGENCY: Department of Energy.

ACTION: Re-opening of the public comment period.

SUMMARY: The U.S. Department of Energy (DOE) is re-opening the public comment period for the Draft Uranium Leasing Program Programmatic Environmental Impact Statement (Draft ULP PEIS, DOE/EIS-0472D), made available for public comment on March 15, 2013. The public comment period will now end on July 1, 2013.

DATES: The public comment period, which was scheduled to end on May 31, 2013, is being re-opened and will close on July 1, 2013.

ADDRESSES: The Draft ULP PEIS is available for review on the ULP PEIS Web site at http://ulpeis.anl.gov/ and the DOE NEPA Web site at http://www.energy.gov/nepa. Please direct written comments on the Draft ULP PEIS to Mr. Raymond Plieness, ULP PEIS Document Manager, Office of Legacy Management, U.S. Department of Energy, 11025 Dover Street, Suite 1000, Westminster, CO 80021.

Comments may also be submitted via email to ulpeis@anl.gov or via the Internet at http://ulpeis.anl.gov/.

FOR FURTHER INFORMATION CONTACT: For general information about the NEPA process, please contact: Ms. Carol M. Borgstrom, Director, Office of NEPA Policy and Compliance, GC-54, U.S. Department of Energy, 1000 Independence Avenue SW., Washington, DC 20585, Telephone: (202) 586-4600, leave a message at 1-800-472-2756, or send an email to Ask NEPA@hq.doe.gov.

SUPPLEMENTARY INFORMATION: DOE made the Draft ULP PEIS available for public comment on March 15, 2013 (78 FR 16500). The public comment period for the Draft ULP PEIS was to end on May 16, 2013, and an extension to May 31, 2013, was announced on April 23, 2013 (78 FR 23926). With this notice, DOE re-opens the public comment period, which will now close on July 1, 2013, in response to a public request for additional review time.

DOE will give equal weight to written, email, and oral comments. Questions regarding the ULP PEIS process, requests to be placed on the ULP PEIS mailing list, and requests for copies of the document should be directed to Mr. Plieness at the address provided in the ADDRESSES section. Comments received after the end of the comment period will be considered to the extent practicable.

Issued in Washington, DC, on May 29, 2013.
David W. Geiser,
Director, DOE Office of Legacy Management.

[FR Doc. 2013-13055 Filed 5-31-13; 8:45 am]

BILLING CODE 6450-01-P